SMALL BUSINESS ADMINISTRATION

[Disaster Declaration # 13463 and # 13464]

Pennsylvania Disaster Number PA-00057

AGENCY: U.S. Small Business Administration.

ACTION: Amendment 1.

SUMMARY: This is an amendment of the Presidential declaration of a major disaster for Public Assistance Only for the Commonwealth of Pennsylvania (FEMA-4099-DR), dated 01/10/2013.

Incident: Hurricane Sandy.

Incident Period: 10/26/2012 through 11/08/2012.

Effective Date: 01/17/2013.

Physical Loan Application Deadline Date: 03/11/2013.

Economic Injury (EIDL) Loan Application Deadline Date: 10/10/2013.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of Pennsylvania, dated 01/10/2013, is hereby amended to include the following areas as adversely affected by the disaster.

Primary Counties:Montgomery.

All other information in the original declaration remains unchanged.

(Catalog of Federal Domestic Assistance Numbers 59002 and 59008)

James E. Rivera,
Associate Administrator for Disaster Assistance.

[FR Doc. 2013-02337 Filed 2-1-13; 8:45 am]

BILLING CODE 8025-01-P